DEPARTMENT OF LABOR

Office of Labor-Management Standards

29 CFR Part 470

RIN 1215-AB71

Obligation of Federal Contractors and Subcontractors; Notice of Employee Rights Concerning Payment of Union Dues or Fees

AGENCY: Office of Labor-Management Standards, Employment Standards Administration, Labor.

ACTION: Final rule; rescission of regulations.

SUMMARY: This final rule rescinds the regulations found at 29 CFR part 470, which implemented Executive Order 13201. Executive Order 13496, signed by President Obama on January 30, 2009 and published in the Federal Register on February 4, 2009, revoked Executive Order 13201, thus removing the authority under which such regulations were promulgated. Accordingly, the Secretary of Labor (the “Secretary”) is issuing this final rule to rescind the regulations that implement and enforce the now-revoked Executive Order 13201.

DATES: Effective Date: March 30, 2009.

FOR FURTHER INFORMATION CONTACT: Denise M. Boucher, Director, Office of Policy Reports and Disclosure, Office of Labor-Management Standards, Employment Standards Administration, U.S. Department of Labor, 200 Constitution Avenue, NW., Suite N-5609, Washington, DC 20210, (202) 693-1185. This number is not toll-free.

SUPPLEMENTARY INFORMATION: On January 30, 2009, President Obama signed Executive Order 13496, which revokes Executive Order 13201 and instructs executive departments and agencies to revoke any orders, rules, regulations, or policies implementing or enforcing Executive Order 13201. Executive Order 13496, Section 13, 74 FR 6107 (February 4, 2009). Pursuant to the now-revoked Executive Order 13201, the Secretary promulgated regulations implementing and enforcing its terms, 29 CFR Part 470, which required government contractors and subcontractors to post notices informing their employees of certain rights under federal law. These regulations also required federal contracting agencies and covered government contractors and subcontractors to include certain provisions of the Order in their contracts, subcontracts, and purchase orders.

Because Executive Order 13496 expressly revokes Executive Order 13201, the authority for the Secretary's implementing regulations at 29 CFR Part 470 no longer exists. As a result, the implementing regulations are now without force and effect, and the Secretary no longer enforces them. Consequently, this final rule rescinds these regulations.

The Secretary has determined that it need not publish the rescission of these regulations as a proposed rule, as generally required by the Administrative Procedure Act (“APA”), 5 U.S.C. 553(b). Notice to the public and provision of a public comment period for this rule are unnecessary because Executive Order 13201, which authorized 29 CFR Part 470, has been revoked, and, therefore, no legal basis exists for these regulations. Furthermore, Section 13 of Executive Order 13496 provides that regulations implementing Executive Order 13201 shall be promptly revoked. Therefore, good cause exists for dispensing with the notice and comment requirements of the APA. 5 U.S.C. 553(b)(B). For the same reasons, good cause exists to make this rule effective immediately upon publication of this rule. 5 U.S.C. 553(d)(3).

Regulatory Procedures

Executive Order 12866

This final rule has been drafted and reviewed in accordance with Executive Order 12866, section 1(b), Principles of Regulation. The Department has determined that this rule is not a “significant regulatory action” under Executive Order 12866, section 3(f), Regulatory Planning and Review. The Department has also determined that this rule is not “economically significant” as defined in section 3(f)(1) of Executive Order 12866. Therefore, the information enumerated in section 6(a)(3)(C) of the order is not required.

Regulatory Flexibility Act

This rescission is not a rule as defined in the Regulatory Flexibility Act (5 U.S.C. 601(2) and 604(a)) because a general notice of proposed rulemaking was not published nor an opportunity for notice and public comment provided in connection therewith. Therefore, a regulatory flexibility analysis under the Regulatory Flexibility Act is not required. The Secretary has certified this conclusion to the Chief Counsel for Advocacy of the Small Business Administration.

Unfunded Mandates Reform

Unfunded Mandates Reform Act of 1995—This rule will not include any Federal mandate that may result in increased expenditures by State, local, and tribal governments, in the aggregate, of $100 million or more, or in increased expenditures by the private sector of $100 million or more.

Paperwork Reduction Act

This rule contains no new information collection requirements for purposes of the Paperwork Reduction Act of 1995 (44 U.S.C. 3501 et seq.).

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of the United States-based companies to compete with foreign-based companies in domestic and export markets.

List of Subjects in 29 CFR Part 470

Administrative practice and procedure, Government contracts, Union dues, Labor unions.

Accordingly, pursuant to Executive Order 13496 and for the reasons stated herein, the Secretary hereby amends Title 29 of the Code of Federal Regulations, Subchapter C, by removing Part 470 and reserving it for future use.

Authority: Executive Order 13496.

Signed in Washington, DC, this 24th day of March, 2009.
Shelby Hallmark,
Acting Assistant Secretary for Employment Standards.
Andrew D. Auerbach,
Deputy Director, Office of Labor-Management Standards.

[FR Doc. E9-6926 Filed 3-27-09; 8:45 am]

BILLING CODE 4510-CP-P